DEPARTMENT OF ENERGY

Federal Energy Regulatory Commission

Combined Notice of Filings #1

Take notice that the Commission received the following electric rate filings:

Docket Numbers: ER11-2705-003.

Applicants: California Independent System Operator Corporation.

Description: 2012-02-16 CAISO RTPP Compliance Filing to be effective 12/2/2011.

Filed Date: 2/16/12.

Accession Number: 20120216-5160.

Comments Due: 5 p.m. ET 3/8/12.

Docket Numbers: ER12-36-000.

Applicants: PacifiCorp.

Description: Answer to Request for Information of PacifiCorp.

Filed Date: 2/16/12.

Accession Number: 20120216-5150.

Comments Due: 5 p.m. ET 3/8/12.

Docket Numbers: ER12-1102-000.

Applicants: Entergy Services, Inc.

Description: Entergy Operating Companies submits request of specific Commission authorization to include under Service Schedule MSS-3 of the Entergy Service Agreement.

Filed Date: 2/15/12.

Accession Number: 20120216-0201.

Comments Due: 5 p.m. ET 3/7/12.

Docket Numbers: ER12-1109-000.

Applicants: ITC Midwest LLC.

Description: Concurrence to IPL Amended O&T Agreement to be effective 12/31/9998.

Filed Date: 2/16/12.

Accession Number: 20120216-5144.

Comments Due: 5 p.m. ET 3/8/12.

Docket Numbers: ER12-1110-000.

Applicants: ITC Midwest LLC.

Description: Concurrence to MISO Coordination Agreement to be effective 12/31/9998.

Filed Date: 2/16/12.

Accession Number: 20120216-5145.

Comments Due: 5 p.m. ET 3/8/12.

Docket Numbers: ER12-1111-000.

Applicants: Parkview AMC Energy, LLC.

Description: Amended Baseline Filing to be effective 2/3/2012.

Filed Date: 2/16/12.

Accession Number: 20120216-5164.

Comments Due: 5 p.m. ET 3/8/12.

Docket Numbers: ER12-1112-000.

Applicants: Midwest Independent Transmission System Operator, Inc.

Description: Filing of Midwest Independent Transmission System Operator, Inc.

Filed Date: 2/16/12.

Accession Number: 20120216-5214.

Comments Due: 5 p.m. ET 3/8/12.

Take notice that the Commission received the following electric securities filings:

Docket Numbers: ES12-12-000.

Applicants: Prairie Wind Transmission, LLC.

Description: Second Amendment to Application of Prairie Wind Transmission, LLC.

Filed Date: 2/16/12.

Accession Number: 20120216-5213.

Comments Due: 5 p.m. ET 2/27/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 17, 2012.
Nathaniel J. Davis, Sr.,
Deputy Secretary.

[FR Doc. 2012-4434 Filed 2-24-12; 8:45 am]

BILLING CODE 6717-01-P